DEPARTMENT OF ENERGY

Federal Energy Regulatory Commission

Combined Notice of Filings #1

Take notice that the Commission received the following electric rate filings:

Docket Numbers: ER11-4070-001.

Applicants: RITELine Illinois, LLC, RITELine Indiana, LLC.

Description: RITELine Indiana Compliance Filing to be effective 10/17/2011.

Filed Date: 11/14/2011.

Accession Number: 20111114-5331.

Comment Date: 5 p.m. ET on 12/5/2011.

Docket Numbers: ER11-4706-001.

Applicants: Viridity Energy, Inc.

Description: Supplement to MBR Application of Viridity Energy, Inc. to be effective 11/28/2011.

Filed Date: 11/14/2011.

Accession Number: 20111114-5325.

Comment Date: 5 p.m. ET on 12/5/2011.

Docket Numbers: ER12-21-001.

Applicants: Agua Caliente Solar, LLC.

Description: Supplement to Application for Market-Based Rate Authority to be effective 12/5/2011.

Filed Date: 11/10/2011.

Accession Number: 20111110-5175.

Comment Date: 5 p.m. ET on 11/25/2011.

Docket Numbers: ER12-224-001.

Applicants: Stream Energy Columbia, LLC.

Description: Amendment to MBR Application to be effective 10/27/2011.

Filed Date: 11/14/2011.

Accession Number: 20111114-5202.

Comment Date: 5 p.m. ET on 11/25/2011.

Docket Numbers: ER12-225-001.

Applicants: Stream Energy New Jersey, LLC.

Description: Amendment to MBR Application to be effective 10/27/2011.

Filed Date: 11/14/2011.

Accession Number: 20111114-5203.

Comment Date: 5 p.m. ET on 11/25/2011.

Docket Numbers: ER12-240-001.

Applicants: PPL Energy Supply, LLC.

Description: PPL Energy Supply Amendment Filing to be effective 11/29/2011.

Filed Date: 11/10/2011.

Accession Number: 20111110-5162.

Comment Date: 5 p.m. ET on 11/21/2011.

Docket Numbers: ER12-381-000.

Applicants: California Independent System Operator Corporation.

Description: 2011-11-10 CAISO Amendment 2 to ICAOA with SRP to be effective 12/31/9998.

Filed Date: 11/10/2011.

Accession Number: 20111110-5098.

Comment Date: 5 p.m. ET on 12/1/2011.

Docket Numbers: ER12-382-000.

Applicants: PJM Interconnection, L.L.C.

Description: Original Service Agreement No. 3094; Queue No. V4-067 to be effective 10/11/2011.

Filed Date: 11/10/2011.

Accession Number: 20111110-5103.

Comment Date: 5 p.m. ET on 12/1/2011.

Docket Numbers: ER12-383-000.

Applicants: TBG Cogen Partners.

Description: Revised Market-Based Rate Tariff to be effective 11/11/2011.

Filed Date: 11/10/2011.

Accession Number: 20111110-5114.

Comment Date: 5 p.m. ET on 12/1/2011.

Docket Numbers: ER12-384-000.

Applicants: Calpine Bethlehem, LLC.

Description: Revised Market-Based Rate Tariff to be effective 11/11/2011.

Filed Date: 11/10/2011.

Accession Number: 20111110-5117.

Comment Date: 5 p.m. ET on 12/1/2011.

Docket Numbers: ER12-385-000.

Applicants: CES Marketing V, L.P.

Description: Revised Market-Based Rate Tariff to be effective 11/11/2011.

Filed Date: 11/10/2011.

Accession Number: 20111110-5119.

Comment Date: 5 p.m. ET on 12/1/2011.

Docket Numbers: ER12-386-000.

Applicants: Calpine Mid-Atlantic Marketing, LLC.

Description: Revised Market-Based Rate Tariff to be effective 11/11/2011.

Filed Date: 11/10/2011.

Accession Number: 20111110-5127.

Comment Date: 5 p.m. ET on 12/1/2011.

Docket Numbers: ER12-387-000.

Applicants: Nissequogue Cogen Partners.

Description: Revised Market-Based Rate Tariff to be effective 11/11/2011.

Filed Date: 11/10/2011.

Accession Number: 20111110-5134.

Comment Date: 5 p.m. ET on 12/1/2011.

Docket Numbers: ER12-388-000.

Applicants: Calpine Newark, LLC.

Description: Revised Market-Based Rate Tariff to be effective 11/11/2011.

Filed Date: 11/10/2011.

Accession Number: 20111110-5137.

Comment Date: 5 p.m. ET on 12/1/2011.

Docket Numbers: ER12-389-000.

Applicants: KIAC Partners.

Description: Revised Market-Based Rate Tariff to be effective 11/11/2011.

Filed Date: 11/10/2011.

Accession Number: 20111110-5140.

Comment Date: 5 p.m. ET on 12/1/2011.

Docket Numbers: ER12-390-000.

Applicants: Zion Energy LLC.

Description: Revised Market-Based Rate Tariff to be effective 11/11/2011.

Filed Date: 11/10/2011.

Accession Number: 20111110-5145.

Comment Date: 5 p.m. ET on 12/1/2011.

Docket Numbers: ER12-391-000.

Applicants: Calpine Philadelphia Inc.

Description: Revised Market-Based Rate Tariff to be effective 11/11/2011.

Filed Date: 11/10/2011.

Accession Number: 20111110-5146.

Comment Date: 5 p.m. ET on 12/1/2011.

Docket Numbers: ER12-392-000.

Applicants: PJM Interconnection, L.L.C.

Description: Original Service Agreement No. 3098—Queue Position S61 to be effective 10/11/2011.

Filed Date: 11/10/2011.

Accession Number: 20111110-5159.

Comment Date: 5 p.m. ET on 12/1/2011.

Docket Numbers: ER12-393-000.

Applicants: CPN Bethpage 3rd Turbine, Inc.

Description: Revised Market-Based Rate Tariff to be effective 11/11/2011.

Filed Date: 11/10/2011.

Accession Number: 20111110-5160.

Comment Date: 5 p.m. ET on 12/1/2011.

Docket Numbers: ER12-394-000.

Applicants: Bethpage Energy Center 3, LLC.

Description: Revised Market-Based Rate Tariff to be effective 11/11/2011.

Filed Date: 11/10/2011.

Accession Number: 20111110-5168.

Comment Date: 5 p.m. ET on 12/1/2011.

Docket Numbers: ER12-395-000.

Applicants: Northern States Power Company, a Minnesota Corporation.

Description: 2011-11-11_Tm-1_Comp_Filing to be effective 1/1/2011.

Filed Date: 11/14/2011.

Accession Number: 20111114-5012.

Comment Date: 5 p.m. ET on 12/5/2011.

Docket Numbers: ER12-396-000.

Applicants: Midwest Independent Transmission System Operator, Inc.

Description: GRE-Amended JPZ_RS 28 to be effective 1/1/2012.

Filed Date: 11/14/2011.

Accession Number: 20111114-5014.

Comment Date: 5 p.m. ET on 12/5/2011.

Docket Numbers: ER12-397-000.

Applicants: Midwest Independent Transmission System Operator, Inc.

Description: G491 Amended LGIA (11-11-11) to be effective 11/15/2011.

Filed Date: 11/14/2011.

Accession Number: 20111114-5024.

Comment Date: 5 p.m. ET on 12/5/2011.

Docket Numbers: ER12-398-000.

Applicants: Southwestern Electric Power Company.

Description: 20111111 AEPSC and Bentonville Sub I Letter Agreement to be effective 12/17/2010.

Filed Date: 11/14/2011.

Accession Number: 20111114-5026.

Comment Date: 5 p.m. ET on 12/5/2011.

Docket Numbers: ER12-399-000.

Applicants: Interstate Power and Light Company.

Description: IPL and Exergy—LBA Agreement to be effective 11/14/2011.

Filed Date: 11/14/2011.

Accession Number: 20111114-5168.

Comment Date: 5 p.m. ET on 12/5/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2011.
Nathaniel J. Davis, Sr.,
Deputy Secretary.

[FR Doc. 2011-30113 Filed 11-21-11; 8:45 am]

BILLING CODE 6717-01-P